DEPARTMENT OF HEALTH AND HUMAN SERVICES

42 CFR Part 71

RIN 0920-AA14

Foreign Quarantine Regulations, Proposed Revision of HHS/CDC Animal Importation Regulations

AGENCY: Centers for Disease Control and Prevention (CDC), Department of Health and Human Services (HHS).

ACTION: Advance notice of proposed rulemaking; withdrawal.

SUMMARY: The Centers for Disease Control and Prevention (CDC), located within the Department of Health and Human Services (HHS) announces the withdrawal of its 2007 advance notice of proposed rulemaking (ANPRM). The 2007 ANPRM was issued to begin the process of revising the regulations concerning importation of animals and animal products.

DATES: As of November 17, 2017, the ANPRM published on July 31, 2007, at 72 FR 41676, is withdrawn.

FOR FURTHER INFORMATION CONTACT: Anne E. O'Connor, M.S., MT(ASCP), Office of the Chief of Staff, Centers for Disease Control and Prevention, 1600 Clifton Road NE., MS-A14, Atlanta, GA 30329; email: cdcregulations@cdc.gov.

SUPPLEMENTARY INFORMATION: On July 31, 2007, HHS/CDC published an advance notice of proposed rulemaking (72 FR 41679) requesting input and background information from the public on revisions to HHS/CDC's animal importation regulations found at 42 CFR part 71. The ANPRM had a 60-day comment period. On October 1, 2007, HHS/CDC published another notice (72 FR 55729) that extended the public comment period to December 1, 2007.

In response to the ANPRM, HHS/CDC received 20 public comments including from individuals, organizations, three animal-rescue advocacy groups, one private pet business, and one state government entity. Some commenters asserted that the current regulations fail to take into account the increasing volume of animal imports and new threats to human health and safety posed by these imports. Other commenters asserted that the same rules and fees applicable to commercial importers should be extended to non-profit animal shelters, rescue groups, and animal sanctuaries that effectively function as pet stores. The topics that received the most comments were changing the rabies regimen and requiring health certificate and unique identifiers for dogs, cats, and ferrets; and other strategies for preventing the introduction, spread, and transmission of zoonotic disease in the United States.

HHS/CDC believes the public interest is best served by withdrawing the ANPRM identified in this document from rulemaking. The withdrawal of the ANPRM identified in this document does not preclude HHS/CDC from initiating future rulemaking to prevent the introduction, transmission, or spread of communicable diseases from foreign countries into the United States and from one State or possession into another.

The ANPRM published on July 31, 2007 (72 FR 41676), is hereby withdrawn.

Dated: November 13, 2017.
Eric D. Hargan,
Acting Secretary, Department of Health and Human Services.

[FR Doc. 2017-24951 Filed 11-16-17; 8:45 am]

BILLING CODE 4163-18-P